DEPARTMENT OF DEFENSE

Department of the Army

Notice of Intent To Prepare an Environmental Impact Statement (EIS) for Update of the Fort Belvoir Real Property Master Plan

AGENCY: Department of the Army, DOD.

ACTION: Notice of intent.

SUMMARY: The Department of the Army intends to prepare an EIS pursuant to Section 102(2)(C) of the National Environmental Policy Act and regulations of the Council on Environmental Quality (40 CFR 1500-1508). The EIS will evaluate potential environmental, transportation, and socioeconomic effects associated with implementation of the Army's proposed revision and update of the Fort Belvoir Real Property Master Plan. In addition to evaluation of a no action alternative, the EIS will consider a range of alternatives based on various development scenarios to accommodate the installation's current and projected missions and requirements.

DATES: Comments concerning the scope of the EIS must be received within 30 days from the date of this Notice to be considered in the preparation of the draft EIS.

ADDRESSES: Please send written comments to: Mr. Patrick McLaughlin, Directorate of Public Works and Logistics, 9430 Jackson Loop, Suite 107, Fort Belvoir, VA 22060, or via e-mail to environmental@belvoir.army.mil.

FOR FURTHER INFORMATION CONTACT: Mr. Patrick McLaughlin at (703) 806-4007 during normal working business hours, Monday through Friday 7:30 a.m. to 4 p.m., or via e-mail to environmental@belvoir.army.mil.

SUPPLEMENTARY INFORMATION: Fort Belvoir, comprising 8,419 acres (excluding the Engineer Proving Ground), is approximately 18 miles southwest of Washington, DC, and serves as a strategic sustaining base for America's Army. The post is home to one Army major command headquarters and elements of 10 others, 2 Direct Reporting Units, 19 agencies of the Department of Army, 8 elements of the U.S. Army Reserve and the Army National Guard, and numerous Department of Defense and other Federal agencies. Tenant organizations perform work vital to the success of the goals and objectives of the Nation's defense strategy. Fort Belvoir contributes to the Nation's defense by efficiently and effectively supporting the various Army and DoD elements in the performance of their missions.

A Real Property Master Plan is an installation's strategy for the orderly management and development of its real property assets, including land, facilities, resources, and infrastructure. The Real Property Master Plan forms the foundation for the development of an installation, provides the framework for analyzing resource allocations, and aids the management of peacetime and mobilization construction and development activities.

Army Regulation 210-20, Installation Master Planning, provides that an installation's Real Property Master Plan shall consist of four major components: Long-Range Component, Capital Investment Strategy, Short-Range Component, and Mobilization Mission Planning Component. Contributory plans support and accompany the four major components. The Long-Range Component provides the “big picture” and long-range real property management for an installation.

In 1993, Fort Belvoir prepared a comprehensive update to the Real Property Master Plan. Over the past decade, numerous developments have resulted in a need for Fort Belvoir to provide support to a growing number of Army and Department of Defense entities. Further expansion of Fort Belvoir's critical role in supporting the national defense is likely to occur.

Alternative potential development scenarios for EIS analysis are under development. Preference will be given to alternative development plan scenarios that afford operational efficiency, minimize environmental and community impacts, and provide flexibility to respond to changes in future installation mission requirements. The potential for alternatives to provide for sustainable, long-term use of resources will be central to their selection for evaluation in detail.

The Army solicits input in the scoping process to identify issues of concern, identify information sources bearing on evaluation of impacts, and to obtain public input on the range and reasonableness of alternatives.

The Army recognizes numerous resource areas and issues that will require consideration in the EIS. These include, but are not limited to: Air quality; surface water quality; cultural resources; transportation system; environmentally sensitive areas such as wildlife corridors, wetlands, floodplains, wildlife refuges, Chesapeake Bay Protection Areas; biological resources, to include, in particular, protected fauna and flora species; site topography and soils; socioeconomic conditions; land use; and community facilities and services. Additional resources and conditions may be identified as a result of the scoping process initiated by this Notice.

The general public, local governments, other Federal agencies, and state agencies are invited to submit written comments or suggestions concerning the scope of the analysis and issues and alternatives to be analyzed. The Army will host a scoping meeting to enable the submission of oral or written comments by interested parties. Comments, whether provided orally or in writing, will be considered in determining the scope of the EIS. The scoping meeting will be held near Fort Belvoir with the time and place of the scoping meeting being announced in local media not less than 15 days before the event.

In addition, the Army will provide direct notification of the time and location of the scoping meeting to individuals, community organizations, local government personnel, state agencies, Federally recognized Indian tribes, and other Federal agencies that so request it as a result of this Notice. Requests must be addressed to the individual and office shown in the ADDRESSES section above.

Dated: October 20, 2003.
Raymond J. Fatz,
Deputy Assistant Secretary of the Army, (Environment, Safety and Occupational Health), OASA(I&E).

[FR Doc. 03-26834 Filed 10-23-03; 8:45 am]

BILLING CODE 3710-08-M